DEPARTMENT OF DEFENSE

Department of the Army; Corps of Engineers

Intent To Prepare an Environmental Impact Statement for the Proposed Closure of the Al Black Recreation Area at the Cochiti Dam Outlet Works in Sandoval County, NM

AGENCY: Department of the Army, U.S. Army Corps of Engineers, DoD.

ACTION: Notice of intent.

SUMMARY: The U.S. Army Corps of Engineers, Albuquerque District (Corps) intends to prepare an Environmental Impact Statement (EIS) for the proposed closure of the Al Black Recreation area at the Cochiti Dam Outlet Works in Sandoval County, NM.

FOR FURTHER INFORMATION CONTACT: Mr. Ernest Jahnke, U.S., Army Corps of Engineers, 4101 Jefferson Plaza, NE., Albuquerque, NM 87109, (505) 342-3416.

SUPPLEMENTARY INFORMATION: The Corps, the Cochiti de Pueblo (Pueblo), and the Bureau of Indian Affairs (BIA) are investigating modifying the easement for the operation of the Cochiti Dam Outlet Works/Al Black Recreation Area. Specifically, the recreation easement would be rescinded but the Corps would retain the original dam operation and maintenance easement. Public access to the recreation area would no longer be allowed. All public-oriented facilities and other amenities that have no bearing on operation or maintenance of the Outlet Works would be removed and surplused or disposed of following Federal guidelines. The Corps would restore the site as prescribed by the Pueblo. The Cochiti Dam Outlet Works operation and maintenance easement granted to the Corps would remain in effect. Corps, Middle Rio Grande Conservancy District, and U.S. Bureau of Reclamation (BOR) personnel would have access to the area for operation and maintenance purposes. Members of the Pueblo would continue to access the area for religious and cultural ceremonies. This Federal action would satisfy a November 8, 2001, understanding between the Corps, Pueblo and BIA.

Construction of the Cochiti Dam and Lake (Project) was authorized for flood and sediment control in the Upper Rio Grande Basin by the Flood Control Act of 1960 (Pub. L. 86-645). Various Pueblo/Corps lease agreements defined the use and management of the Project land owned by the Pueblo including Corps construction of public use recreation facilities at various locations that the Pueblo would operate and maintain. In a lease amendment dated June 12, 1984, the Pueblo transferred the operation and maintenance of the Outlet Channel Area/Al Black Recreation Area to the Corps.

All private interests and Federal, State, local agencies, and tribes having an interest in the project are hereby notified of the proposed action and are invited to comment at this time. The scoping process will consist of public notification to explain and describe the proposed action, early identification of resources that should be considered during the study, and public review periods. Coordination with the public and with other agencies will be carried out through public announcements, letters, report review periods telephone conversations, and meetings.

The Corps prepared a Draft Environmental Assessment on the proposed action and held a public meeting on August 28, 2003 in Rio Rancho, NM. Additional information and evidence gathered during that meeting and expressed public resistance to establishing a recreation facility at Pena Blanca, NM resulted in the decision to prepare an EIS for the proposed action. All Federal, State and local agencies, affected Indian tribes, and other interested private organizations and parties will be notified of the meeting and will be provided copies of the Draft EIS (DEIS) for comment.

Significant issues to be discussed in the DEIS include the alternatives analysis for the possible relocation of the Al Black Recreation Area and other avenues for replacing lost recreation opportunities incurred as a result of the proposed action.

The lead agency for this project is the U.S. Army Corps of Engineers, Albuquerque District. Cooperating agency status has not been assigned, nor requested, by any other agency.

The EIS is being prepared in accordance with the requirements of the National Environmental Policy Act of 1969, as amended, and will address the project's relationship to all other applicable Federal and State laws and Executive Orders.

Scoping meetings will be held in Peña Blanca, Albuquerque and other locations as deemed necessary. Specific information regarding location and time of the meetings will be published in local newspapers. It is anticipated that the DEIS will be available for public review and comment by February 1, 2004.

Luz D. Ortiz,
Army Federal Register Liaison Officer.

[FR Doc. 03-27977 Filed 11-9-03; 8:45 am]

BILLING CODE 3710-KK-M